DEPARTMENT OF TRANSPORTATION

Surface Transportation Board

[STB Finance Docket No. 34671]

Genesee & Wyoming Inc.—Continuance in Control Exemption—First Coast Railroad, Inc.

Genesee & Wyoming Inc. (GWI) has filed a verified notice of exemption to continue in control of First Coast Railroad, Inc. (FCRD), upon FCRD's becoming a Class III rail carrier.

The transaction was expected to be consummated on or after April 9, 2005.

This transaction is related to a concurrently filed verified notice of exemption in STB Finance Docket No. 34670, First Coast Railroad, Inc.—Lease and Operation Exemption—CSX Transportation, Inc., wherein FCRD seeks to acquire by lease from CSX Transportation, Inc. and operate approximately 31.83 miles of rail line in Florida and Georgia.

GWI is a noncarrier holding company that directly or indirectly controls one operating Class II rail carrier and 22 operating and four non-operating Class III rail carriers.¹

¹ The common control of these carriers was authorized in Genesee & Wyoming, Inc.—Continuance in Control Exemption—Tazewell & Peoria Railroad, Inc., STB Finance Docket No. 34545 (STB served Oct. 1, 2004).

Applicant states that: (1) The lines being leased and operated by FCRD do not connect with any other rail lines in its corporate family; (2) the continuance in control is not part of a series of anticipated transactions that would connect the leased lines with any other rail lines in GWI's corporate family; and (3) the transaction does not involve a Class I carrier. Therefore, the transaction is exempt from the prior approval requirements of 49 U.S.C. 11323. See 49 CFR 1180.2(d)(2).

Under 49 U.S.C. 10502(g), the Board may not use its exemption authority to relieve a rail carrier of its statutory obligation to protect the interests of its employees. Because the transaction involves one Class II and a number of Class III rail carriers, the exemption is subject to the labor protection requirements of 49 U.S.C. 11326(b).

If the verified notice contains false or misleading information, the exemption is void ab initio. Petitions to revoke the exemption under 49 U.S.C. 10502(d) may be filed at any time. The filing of a petition to revoke will not automatically stay the transaction.

An original and 10 copies of all pleadings, referring to STB Finance Docket No. 34671, must be filed with the Surface Transportation Board, 1925 K Street, NW., Washington, DC 20423-0001. In addition, one copy of each pleading must be served on Eric M. Hocky, Gollatz, Griffin & Ewing, P.C., Four Penn Center, Suite 200, 1600 John F. Kennedy Blvd., Philadelphia, PA 19103-2808.

Board decisions and notices are available on our Web site at http://www.stb.dot.gov.

Decided: April 18, 2005.
By the Board, David M. Konschnik, Director, Office of Proceedings.
Vernon A. Williams,
Secretary.

[FR Doc. 05-8108 Filed 4-22-05; 8:45 am]

BILLING CODE 4915-01-P